DEPARTMENT OF THE INTERIOR

National Park Service

Notice of Termination of the Restoration Plan/Programmatic Environmental Impact Statement for Seagrass Restoration Within Biscayne National Park

AGENCY: National Park Service, Department of the Interior.

SUMMARY: The National Park Service (NPS) is terminating the Restoration Plan/Programmatic Environmental Impact Statement (RP/PEIS) for Seagrass Restoration within Biscayne National Park. A Notice of Intent to prepare this RP/PEIS was published in the Federal Register on February 17, 2006. After public scoping and a preliminary analysis of impacts related to seagrass restoration at Biscayne National Park, the NPS determined that the impacts of the identified seagrass restoration alternatives considered would be at or below the minor/negligible level. Consequently, the RP/PEIS is not necessary and NPS decided to terminate the RP/PEIS. The NPS intends to continue the current practice of evaluating seagrass restoration activities and its impacts at Biscayne National Park on a site-specific basis, as appropriate.

FOR FURTHER INFORMATION CONTACT: Damage Recovery Program Manager, National Park Service, Biscayne National Park, 9700 SW., 328th Street, Homestead, Florida 33033, 305-230-1144, BISC_Superintendent@nps.gov.

The authority for publishing this notice is 42 U.S.C. 4332(2)(C).

The responsible official for this EIS is Paul Anderson, Acting Regional Director, Southeast Region, National Park Service, 100 Alabama Street SW., 1924 Building, Atlanta, Georgia 30303.

Dated: March 3, 2008.
Paul R. Anderson,
Acting Regional Director, Southeast Region.

[FR Doc. E8-6321 Filed 3-27-08; 8:45 am]

BILLING CODE 4310-ML-M